DEPARTMENT OF TRANSPORTATION

National Highway Traffic Safety Administration

[Docket No. NHTSA 2004-18745]

Grant of Application of American Suzuki Motorcycle Corporation for Renewals of Temporary Exemptions From Federal Motor Vehicle Safety Standard No. 123

AGENCY: National Highway Traffic Safety Administration (NHTSA), DOT.

ACTION: Grant of application for renewals of temporary exemptions from a Federal motor vehicle safety standard.

SUMMARY: This notice grants the application by a motorcycle manufacturer, American Suzuki Motorcycle Corporation (Suzuki) for renewals of temporary exemptions from a provision in the Federal motor vehicle safety standard on motorcycle controls and displays specifying that a motorcycle rear brake, if provided, must be controlled by a right foot control. We are permitting Suzuki to use the left handlebar as an alternative location for the rear brake control. Suzuki has asserted that “compliance with the standard would prevent the manufacturer from selling a motor vehicle with an overall level of safety at least equal to the overall safety level of nonexempt vehicles.”

DATES: The grant of the application for renewals of temporary exemption expires December 31, 2007.

FOR FURTHER INFORMATION CONTACT: For non-legal issues, you may contact Mr. Michael Pyne, Office of Crash Avoidance Standards at (202) 366-4171. His FAX number is: (202) 493-2739.

For legal issues, you may contact Ms. Dorothy Nakama, Office of the Chief Counsel at (202) 366-2992. Her FAX number is: (202) 366-3820.

You may send mail to these officials at: National Highway Traffic Safety Administration, 400 Seventh St., SW., Washington, DC 20590.

SUPPLEMENTARY INFORMATION:

I. Background

49 U.S.C. Section 30113(b) provides the Secretary of Transportation the authority to exempt, on a temporary basis, motor vehicles from a motor vehicle safety standard under certain circumstances. The exemption may be renewed, if the vehicle manufacturer reapplies. The Secretary has delegated the authority for Section 30113(b) to NHTSA.

NHTSA has established regulations at 49 CFR Part 555, Temporary Exemption from Motor Vehicle Safety and Bumper Standards. Part 555 provides a means by which motor vehicle manufacturers may apply for temporary exemptions from the Federal motor vehicle safety standards on the basis of substantial economic hardship, facilitation of the development of new motor vehicle safety or low-emission engine features, or existence of an equivalent overall level of motor vehicle safety.

Federal Motor Vehicle Safety Standard (FMVSS) No. 123, Motorcycle controls and displays (49 CFR 571.123) specifies requirements for the location, operation, identification, and illumination of motorcycle controls and displays, and requirements for motorcycle stands and footrests. Among other requirements, FMVSS No. 123 specifies that for motorcycles with rear wheel brakes, the rear wheel brakes must be operable through the right foot control, although the left handlebar is permissible for motor-driven cycles (See S5.2.1, and Table 1, Item 11). Motor-driven cycles are motorcycles with motors that produce 5 brake horsepower or less (See 49 CFR 571.3, Definitions).

On November 21, 2003, NHTSA published in the Federal Register (68 FR 65667) a notice proposing two regulatory alternatives to amend FMVSS No. 123. Each alternative would require that for certain motorcycles without a clutch control lever, the rear brakes must be controlled by a lever located on the left handlebar. We also requested comment on industry practices and plans regarding controls for motorcycles with integrated brakes. If this proposed rule is made final, the left handlebar would be permitted as an alternative location for the rear brake control.

II. Applications for Renewals of Temporary Exemptions From FMVSS No. 123

NHTSA has received applications for renewals of temporary exemption from S5.2.1 and Table 1, Item 11 from American Suzuki Motorcycle Corporation (Suzuki), a motorcycle manufacturer. Suzuki asks for extensions of existing temporary exemptions for the Burgman 400 (also known as the AN 400)(for Model Years (MYs) 2005 and 2006), and the Burgman 650 (also known as the AN 650)(for MYs 2005 and 2006). Both the Burgman 400 and Burgman 650 motorcycles are considered “motor scooters.”

The safety issues are identical in the case of both of these motorcycles. Suzuki has applied to use the left handlebar as the location for the rear brake control on its motorcycles whose engines produce more than 5 brake horsepower (both the Burgman 400 and the Burgman 650). The frames of each of the motorcycles have not been designed to mount a right foot operated brake pedal (i.e., these motor scooters have a platform for the feet and operate only through hand controls). Applying considerable stress to this sensitive pressure point of the motor scooter frame by putting on a foot operated brake control could cause failure due to fatigue, unless proper design and testing procedures are performed.

III. Why Suzuki Claims the Overall Level of Safety of the Motorcycles Equals or Exceeds That of Nonexempted Motorcycles

Suzuki has argued that the overall level of safety of the motorcycles covered by its petitions equals or exceeds that of a nonexempted motorcycle for the following reasons. Suzuki has stated that the Burgman scooters are equipped with automatic transmissions. As there is no foot-operated gear change, the operation and use of a motorcycle with an automatic transmission is similar to the operation and use of a bicycle, and the vehicles can be operated without requiring special training or practice.

Suzuki provided test data with its October 4, 2002 original temporary exemption petition showing that the Burgman 400 “can easily meet” the braking performance requirements in FMVSS No. 122, Motorcycle brake systems. Suzuki provided similar test data with its June 2, 2002 original temporary exemption petition for the Burgman 650, which also showed that the Burgman 650 “can easily meet FMVSS No. 122.”

Suzuki further stated that it will not sell more than 2,500 exempted vehicles in the U.S. in any 12-month period for which an exemption may be granted. At the end of the exemption period, Suzuki stated that it does not intend to comply with the rear brake control requirements of FMVSS No. 123. Under previously granted exemptions, Suzuki sold approximately 2,702 Burgman 400 scooters and approximately 2, 947 Burgman 650 scooters over a two-year period.

IV. Why Suzuki Claims an Exemption Would Be in the Public Interest and Would Be Consistent With the Objectives of Motor Vehicle Safety

Suzuki offered the following reason why another temporary exemption for its motorcycles would be in the public interest and would be consistent with the objectives of motor vehicle safety. Suzuki asserted that the level of safety of the Burgman scooters is “at least equal to similar vehicles that are certified to FMVSS No. 123.” Suzuki further asserted that scooters like the Burgman 400 and Burgman 650 are of interest to the public, evidenced by the number of companies that have previously requested exemptions to sell similar products in the U.S., the favorable public comment on the exemption requests, and the number of scooters sold under the granted exemptions.

V. Notification of Receipt of Applications and Public Comments

On December 3, 2004 (69 FR 70304) [Docket No. NHTSA-2004-18745], we published a Federal Register notice announcing the receipt of applications for renewals of exemptions from Suzuki. We published Suzuki's reasons why the overall safety of the motorcycles equals or exceeds that of nonexempted motorcycles, and why Suzuki claimed an exemption would be in the public interest and would be consistent with the objectives of motor vehicle safety. We asked for public comment on Suzuki's application.

We received no comments in response to the December 3, 2004 document.

VI. NHTSA's Decisions on the Applications

It is evident that, unless Standard No. 123 is amended to permit or require the left handlebar brake control on motor scooters with more than 5 hp, Suzuki will be unable to sell its motorcycles if it does not receive a temporary exemption from the requirement that the right foot pedal operate the brake control. It is also evident from the previous grants of similar petitions that we have repeatedly found that the motorcycles exempted from the brake control location requirement of Standard No. 123 have an overall level of safety at least equal to that of nonexempted motorcycles.

In consideration of the foregoing, we hereby find that Suzuki has met its burden of persuasion that to require compliance with Standard No. 123 would prevent Suzuki from selling a motor vehicle with an overall level of safety at least equal to the overall safety level of nonexempt vehicles. We further find that a temporary exemption is in the public interest and consistent with the objectives of motor vehicle safety. Therefore:

1. NHTSA Temporary Exemption No. EX02-3, exempting American Suzuki Motorcycle Corporation from the requirements of item 11, column 2, table 1 of 49 CFR 571.123 Standard No. 123 Motorcycle Controls and Displays, that the rear wheel brakes be operable through the right foot control, is hereby extended to expire on December 31, 2007. This exemption applies only to the Burgman 400 (also known as the AN 400).

2. NHTSA Temporary Exemption No. EX02-2 exempting American Suzuki Motorcycle Corporation from the requirements of item 11, column 2, table 1 of 49 CFR 571.123 Standard No. 123 Motorcycle Controls and Displays, that the rear wheel brakes be operable through the right foot control, is hereby extended to expire on December 31, 2007. This exemption applies only to the Burgman 650 (also known as the AN 650).

Authority: 49 U.S.C. Section 30113; delegations of authority at 49 CFR 1.50 and 501.4.

Issued on: March 16, 2005.
Jeffrey W. Runge,
Administrator.

[FR Doc. 05-5579 Filed 3-21-05; 8:45 am]

BILLING CODE 4910-59-P